SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: August 1-31, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Approvals By Rule—Issued Under 18 CFR 806.22(e)

1. Sunoco Pipeline L.P.; Mariner East 2 Pipeline Project (Middlesex Township Municipal Authority); ABR-201908015; Various Municipalities Located In Berks, Cumberland, Dauphin, Lebanon, and York Counties, Pa.; Consumptive Use of Up to 0.288 mgd; Approval Date: August 16, 2019.

2. Sunoco Pipeline L.P.; Mariner East 2 Pipeline Project (Altoona Water Authority); ABR-201908016; Various Municipalities Located In Blair and Huntingdon Counties, Pa.; Consumptive Use of Up to 0.200 mgd; Approval Date: August 27, 2019.

3. Sunoco Pipeline L.P.; Mariner East 2 Pipeline Project (Mount Union Municipal Authority); ABR-201908017; Various Municipalities Located In Blair, Huntingdon, Juniata, and Perry Counties, Pa.; Consumptive Use of Up to 0.200 mgd; Approval Date: August 27, 2019.

4. Sunoco Pipeline L.P.; Mariner East 2 Pipeline Project (PA American Water Company—Hershey District); ABR-201908018; Various Municipalities Located In Dauphin, Lebanon, and Berks Counties, Pa.; Consumptive Use of Up to 0.288 mgd; Approval Date: August 27, 2019.

5. Sunoco Pipeline L.P.; Mariner East 2 Pipeline Project (PA American Water Company—Mechanicsburg District); ABR-201908019; Various Municipalities Located In Cumberland, York, and Dauphin Counties, Pa.; Consumptive Use of Up to 0.266 mgd; Approval Date: August 27, 2019.

6. Sunoco Pipeline L.P.; Mariner East 2 Pipeline Project (Elverson Water Company, Inc.); ABR-201908020; Various Municipalities Located In Dauphin, Lebanon, Berks, and Chester Counties, Pa.; Consumptive Use of Up to 0.070 mgd; Approval Date: August 29, 2019.

Water Source Approvals Issued Under 18 CFR 806.22(f)

1. ARD Operating, LLC; Pad ID: COP Tract 289 Pad A; ABR-20090409.R2; McHenry Township, Lycoming County, Pa.; Consumptive Use of Up to 4.0000 mgd; Approval Date: August 2, 2019.

2. Chief Oil & Gas, LLC; Pad ID: Reibson Drilling Pad; ABR-201407014.R1; Elkland Township, Sullivan County, Pa.; Consumptive Use of Up to 2.5000 mgd; Approval Date: August 2, 2019.

3. Inflection Energy (PA), LLC; Pad ID: Reynolds Well Site; ABR-201908002; Gamble Township, Lycoming County, Pa.; Consumptive Use of Up to 4.0000 mgd; Approval Date: August 2, 2019.

4. Chesapeake Appalachia, L.L.C.; Pad ID: Hunter, ABR-201408001.R1; Windham Township, Wyoming County, Pa.; Consumptive Use of Up to 7.5000 mgd; Approval Date: August 8, 2019.

5. Seneca Resources Company, LLC; Pad ID: CRV Pad C09-G; ABR-201408002.R1; Shippen Township, Cameron County, Pa.; Consumptive Use of Up to 7.5000 mgd; Approval Date: August 12, 2019.

6. Pennsylvania General Energy Company, L.L.C.; Pad ID: COP Tract 729 Pad-A; ABR-200908003; Cummings Township, Lycoming County, Pa.; Consumptive Use of Up to 2.0000 mgd; Approval Date: August 12, 2019.

7. Pennsylvania General Energy Company, L.L.C.; Pad ID: COP Tract 293 Pad-A; ABR-201908004; Cummings Township, Lycoming County, Pa.; Consumptive Use of Up to 2.0000 mgd; Approval Date: August 12, 2019.

8. Chesapeake Appalachia, L.L.C.; Pad ID: Eileen, ABR-20090806.R2; Terry Township, Bradford County, Pa.; Consumptive Use of Up to 7.5000 mgd; Approval Date: August 13, 2019.

9. Chesapeake Appalachia, L.L.C.; Pad ID: Claudia, ABR-20090807.R2; Smithfield Township, Bradford County, Pa.; Consumptive Use of Up to 7.5000 mgd; Approval Date: August 13, 2019.

10. Chesapeake Appalachia, L.L.C.; Pad ID: Fitzsimmons, ABR-20090809.R2; Albany Township, Bradford County, Pa.; Consumptive Use of Up to 7.5000 mgd; Approval Date: August 13, 2019.

11. Chesapeake Appalachia, L.L.C.; Pad ID: Bacorn, ABR-201408003.R1; Overton Township, Bradford County, Pa.; Consumptive Use of Up to 7.5000 mgd; Approval Date: August 15, 2019.

12. EXCO Resources (PA), LLC; Pad ID: Litke 1H, 2H; ABR-20090425.R2; Burnside Township, Centre County, Pa.; Consumptive Use of Up to 4.0000 mgd; Approval Date: August 19, 2019.

13. EXCO Resources (PA), LLC; Pad ID: Litke (7H & 8H); ABR-20090426.R2; Burnside Township, Centre County, Pa.; Consumptive Use of Up to 4.0000 mgd; Approval Date: August 19, 2019.

14. EXCO Resources (PA), LLC; Pad ID: Litke (14H, 15H, 16H); ABR-20090431.R2; Burnside Township, Centre County, Pa.; Consumptive Use of Up to 5.0000 mgd; Approval Date: August 19, 2019.

15. EXCO Resources (PA), LLC; Pad ID: Barto Unit #1H, #2H; ABR-20090514.R2; Penn Township, Lycoming County, Pa.; Consumptive Use of Up to 5.0000 mgd; Approval Date: August 19, 2019.

16. Chief Oil & Gas, LLC; Pad ID: Phelps Unit #1H; ABR-20090813.R2; Lathrop Township, Susquehanna County, Pa.; Consumptive Use of Up to 5.0000 mgd; Approval Date: August 19, 2019.

17. Seneca Resources Company, LLC; Pad ID: T. Wivell Horizontal Pad; ABR-20090814.R2; Covington Township, Tioga County, Pa.; Consumptive Use of Up to 2.0000 mgd; Approval Date: August 19, 2019.

18. Chief Oil & Gas, LLC; Pad ID: PA Woodlands Drilling Pad; ABR-201408006.R1; Fox Township, Sullivan County, Pa.; Consumptive Use of Up to 2.5000 mgd; Approval Date: August 19, 2019.

19. Cabot Oil & Gas Corporation; Pad ID: DiazM P2; ABR-201908001; Harford Township, Susquehanna County, Pa.; Consumptive Use of Up to 5.0000 mgd; Approval Date: August 19, 2019.

20. EXCO Resources (PA), LLC; Pad ID: Zinck Unit #1 Pad; ABR-201908014; Watson Township, Lycoming County, Pa.; Consumptive Use of Up to 5.0000 mgd; Approval Date: August 19, 2019.

21. Cabot Oil & Gas Corporation; Pad ID: BrooksW P2; ABR-201908009; Springville Township, Susquehanna County, Pa.; Consumptive Use of Up to 5.0000 mgd; Approval Date: August 22, 2019.

22. Cabot Oil & Gas Corporation; Pad ID: ChudleighW P1; ABR-201908005; Springville Township, Susquehanna County, Pa.; Consumptive Use of Up to 5.0000 mgd; Approval Date: August 26, 2019.

23. Cabot Oil & Gas Corporation; Pad ID: Elk Lake School District P1; ABR-201908006; Dimock Township, Susquehanna County, Pa.; Consumptive Use of Up to 5.0000 mgd; Approval Date: August 26, 2019.

24. Cabot Oil & Gas Corporation; Pad ID: BrooksJ P1; ABR-201908007; Springville Township, Susquehanna County, Pa.; Consumptive Use of Up to 5.0000 mgd; Approval Date: August 26, 2019.

25. Cabot Oil & Gas Corporation; Pad ID: PowersN P2; ABR-201908008; Middletown Township, Susquehanna County, Pa.; Consumptive Use of Up to 5.0000 mgd; Approval Date: August 26, 2019.

26. Cabot Oil & Gas Corporation; Pad ID: HunsingerA P1; ABR-201908010; Dimock Township, Susquehanna County, Pa.; Consumptive Use of Up to 5.0000 mgd; Approval Date: August 26, 2019.

27. SWN Production Company, LLC; Pad ID: RU-72-FOLKVARD-PAD; ABR-201908011; Jackson Township, Susquehanna County, Pa.; Consumptive Use of Up to 4.9990 mgd; Approval Date: August 26, 2019.

28. SWN Production Company, LLC; Pad ID: PU-BB-Price-Pad; ABR-201908012; Lenox Township, Susquehanna County, Pa.; Consumptive Use of Up to 4.9990 mgd; Approval Date: August 26, 2019.

29. SWN Production Company, LLC; Pad ID: WR-22-Five E's-Pad; ABR-201908013; Middletown Township, Susquehanna County, Pa.; Consumptive Use of Up to 3.0000 mgd; Approval Date: August 26, 2019.

30. EQT Production Company; Pad ID: Hurd; ABR-20090802.R2; Ferguson Township, Clearfield County, Pa.; Consu

Authority: Pub. L. 91-575, 84 Stat. 1509 et seq., 18 CFR parts 806 and 808.

Dated: September 12, 2019.
Jason E. Oyler,
General Counsel and Secretary to the Commission.

[FR Doc. 2019-20081 Filed 9-16-19; 8:45 am]

BILLING CODE 7040-01-P